DEPARTMENT OF ENERGY

Federal Energy Regulatory Commission

[Docket No. EC02-78-000]

Central Vermont Public Service Corporation and Green Mountain Power Corporation; Notice of Filing

June 21, 2002.

Take notice that on June 18, 2002, Central Vermont Public Service Corporation (Central Vermont) and Green Mountain Power Corporation (Green Mountain) filed with the Federal Energy Regulatory Commission (Commission),an application pursuant to Section 203 of the Federal Power Act for authorization to purchase certain shares of non-voting Class C Common Stock ($100 par value) issued by the Vermont Electric Power Company, Inc. (VELCO). The Vermont Public Service Board has previously approved the issuance of the stock by VELCO.

Copies of the filing were served upon the Vermont Public Service Board and the Vermont Department of Public Service.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Comment Date: July 9, 2002.

Linwood A. Watson, Jr.,
Deputy Secretary.

[FR Doc. 02-16561 Filed 7-01-02; 8:45 am]

BILLING CODE 6717-01-P